DEPARTMENT OF DEFENSE

Office of the Secretary

[Docket ID: DOD-2016-OS-0058]

Proposed Collection; Comment Request

AGENCY: Office of the Assistant Secretary of Defense for Manpower and Reserve Affairs, DoD.

ACTION: Notice.

SUMMARY: In compliance with the Paperwork Reduction Act of 1995, the Office of the Assistant Secretary of Defense for Manpower and Reserve Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 18, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Rajeev Ramchand, RAND Corporation, 1100 South Hayes Street, Arlington, VA 22202, or call (703) 413-1100 ext. 5096.

SUPPLEMENTARY INFORMATION: Title; Associated Form; and OMB Number: Improving Caregiver Outcomes through Structured Support Via Military Caregiver Peer Forums; OMB Control Number 0704-XXXX.

Needs and Uses: The information collection requirement is necessary to assess how participants are using the Military Caregiver PEER (Personalized Experiences, Engagement and Resources) Forums, how participating in the PEER Forums benefits them, and the role that PEER Forums play in the landscape of social support services available to caregivers. Military Caregiver PEER Forums are located on military bases across the country where caregivers can convene, converse among their peers, share resources and best practices, and provide support for the challenges they face. The results will be used to determine how the PEER Forums are currently improving and might better continue to improve caregiver well-being by reducing caregiver burden and addressing caregiver isolation. DoD will use the information gathered by this project to assess the implementation of PEER Forums and implement improvements, if needed. A complementary objective is to use the information gathered by this project to provide DoD with a framework for ongoing monitoring and evaluation of PEER Forums.

Affected Public: Business or other for profit; Not-for-profit institutions.

Annual Burden Hours: 95.

Number of Respondents: 95.

Responses per Respondent: 1.

Annual Responses: 95.

Average Burden per Response: 60 minutes.

Frequency: One-time.

Respondents are: Administrators who oversee the PEER forums, Recovery Care Coordinators who refer caregivers to the PEER forums, Military and Family Life Counselors who run the PEER forums, and caregivers who have been referred to participate in the PEER forums.

Dated: May 12, 2016.
Aaron Siegel,
Alternate OSD Federal Register Liaison Officer, Department of Defense.

[FR Doc. 2016-11625 Filed 5-16-16; 8:45 am]

BILLING CODE 5001-06-P